DEPARTMENT OF HEALTH AND HUMAN SERVICES

Office of the Secretary

[Document Identifier: HHS-OS-0937-0025-60D]

Agency Information Collection Activities; Proposed Collection; Public Comment Request

AGENCY: Office of the Secretary, HHS.

ACTION: Notice.

SUMMARY: In compliance with section 3506(c)(2)(A) of the Paperwork Reduction Act of 1995, the Office of the Secretary (OS), Department of Health and Human Services, announces plans to submit an Information Collection Request (ICR), described below, to the Office of Management and Budget (OMB). The ICR is for extending the use of the approved information collection assigned OMB control number OMB No. 0937-0025, which expires on November 30, 2016. Prior to submitting the ICR to OMB, OS seeks comments from the public regarding the burden estimate, below, or any other aspect of the ICR.

DATES: Comments on the ICR must be received on or before August 8, 2016.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-60D for reference.

Information Collection Request Title: The Commissioned Corps of the U.S. Public Health Service application.

Abstract: The principal purpose for collecting the information is to permit HHS to determine eligibility for appointment of applicants into the Commissioned Corps of the U.S. Public Health Service (Corps). The Corps is one of the seven Uniformed Services of the United States (37 U.S.C. 101(3)), and appointments in the Corps are made pursuant to 42 U.S.C. 204 et seq. and 42 CFR 21.58. The application consists of forms PHS-50, PHS-1813, and the Commissioned Corps Personal Statement.

Likely Respondents: Candidates/Applicants to the Commissioned Corps of the U.S. Public Health Service.

Total Estimated Annualized Burden—Hours
Form name | Type of respondents | Number of respondents | Number of responses per respondent | Average burden per response (in hours) | Total burden hours
Prequalification Questionnaire | Interested Health Professionals | 6,000 | 1 | 15/60 | 1,500
Form PHS-50 | Health Professionals | 1,000 | 1 | 1.0 | 1,000
Form PHS-1813 | References (college professors/teachers) | 4,000 | 1 | 15/60 | 1,000
Addendum: Commissioned Corps Personal Statement | Health Professionals | 1,000 |  | 45/60 | 750
Total |  |  |  |  | 4,250

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Terry S. Clark,
Asst. Information Collection Clearance Officer.

[FR Doc. 2016-13602 Filed 6-8-16; 8:45 am]

BILLING CODE 4150-49-P